DEPARTMENT OF HOUSING AND URBAN DEVELOPMENT

[Docket No. FR-7080-N-36]

30-Day Notice of Proposed Information Collection: Green and Resilient Retrofit Program (GRRP) Supporting Documents and Processing Requirements; OMB Control No.: 2502-NEW

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: September 9, 2024.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Colette Pollard, Reports Management Officer, REE, Department of Housing and Urban Development, 451 7th Street SW, Room 8210, Washington, DC 20410-5000; email: PaperworkReductionActOffice@hud.gov.

FOR FURTHER INFORMATION CONTACT: Colette Pollard, Reports Management Officer, REE, Department of Housing and Urban Development, 7th Street SW, Room 8210, Washington, DC 20410; email Colette.Pollard@hud.gov or telephone (202) 402-3400. This is not a toll-free number. HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: This notice informs the public that HUD is seeking approval from OMB for the information collection described in Section A.

The Federal Register notice that solicited public comment on the information collection for a period of 60 days was published on November 3, 2023 at 88 FR 75619.

A. Overview of Information Collection

Title of Information Collection: Green and Resilient Retrofit Program (GRRP) Supporting Documentation.

OMB Approval Number: Pending.

OMB Expiration Date: TBD.

Type of Request: New collection.

Form Numbers: TBD. While numbers have not yet been assigned, the covered forms include Transaction Plan Templates, Commitment Templates, Escrow Deposit Agreement template, Use Agreement, Surplus Cash loan agreement, Grant Agreement, Surplus Cash Loan Note, Amortizing Loan Note, Surplus Cash Loan Mortgage, Amortizing Loan Mortgage, Addendum to Assistance Contract template including efficiency add-on, Resilience Survey and Completion Certification.

Description of the need for the information and proposed use: The Green and Resilient Retrofit Program (“GRRP”) is funded through Title III of the Inflation Reduction Act of 2022, H.R. 5376 (IRA), in section 30002 titled “Improving Energy Efficiency or Water Efficiency or Climate Resilience of Affordable Housing” (the “IRA”), authorizing HUD to make loans, grants to improve energy or water efficiency; enhance indoor air quality or sustainability; implement the use of zero-emission electricity generation, low-emission building materials or processes, energy storage, or building electrification strategies; or address climate resilience of eligible HUD-assisted multifamily properties. The program leverages significant technological advancements in utility efficiency and adds a focus on preparing for climate hazards—both reducing residents' and properties' exposure to hazards and protecting life, livability, and property when disaster strikes. With its dual focus, GRRP is the first program to consider, at the national scale, how best to approach both green and energy efficiency upgrades simultaneously with investment in climate resilience strategies in multifamily housing. HUD is taking a multi-faceted approach to deploy these funds multiple funding rounds and for properties at different development stages.

Funding under this program will be made through multiple cohorts under one or multiple Notices of Funding Opportunity (NOFOs) that will detail the application process for eligible applicants. This collection is necessary in order to receive applications requesting funding under this program and to complete processing requirements for multifamily owners selected under one of the GRRP cohorts (Elements, Leading Edge & Comprehensive). Documents will include information an owner may need to collect, maintain, or submit to ensure GRRP programmatic and statutory compliance with eligibility requirements and documentation required for HUD approval of any legal and financial obligations including:

• Award eligibility requirements as described in the GRRP Notices.

• Information needed to determine compliance with program requirements.

• Information the Department may require in order to exercise discretionary judgment authorized under the GRRP Notice.

• Demonstration of transaction closing preparedness, including, as applicable:

• Documentation required for HUD approval for any financial information relative to GRRP grants and loans.

• Maintenance of other information that could be requested such as utility and energy consumption and efficiency, and other viable green and retrofitting components.

Respondents: HUD-assisted multifamily owners.

Estimated Number of Respondents: 583.

Estimated Number of Responses: 583.

Frequency of Response: Once per application and awardee package.

Average Hours per Response: 34.5 hours.

Total Estimated Burden: 8,952.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

(5) ways to minimize the burden of the collection of information on those who are to respond, including the use of automated collection techniques or other forms of information technology.

HUD encourages interested parties to submit comment in response to these questions.

C. Authority

Section 3507 of the Paperwork Reduction Act of 1995, 44 U.S.C. chapter 35.

Colette Pollard,
Department Reports Management Officer, Office of Policy Development and Research, Chief Data Officer.

[FR Doc. 2024-17670 Filed 8-8-24; 8:45 am]

BILLING CODE 4210-67-P